DEPARTMENT OF COMMERCE

International Trade Administration

[A-412-822]

Stainless Steel Bar from the United Kingdom: Preliminary Results of Antidumping Duty Administrative Review

AGENCY: Import Administration, International Trade Administration, Department of Commerce.

SUMMARY: In response to a timely request by Firth Rixson Ltd., the Department of Commerce (the Department) is conducting an administrative review of the antidumping duty order on stainless steel bar from the United Kingdom with respect to Enpar Special Alloys Ltd. (Enpar). The period of review (POR) is March 1, 2005, through February 28, 2006.

We preliminarily determine that sales have been made below normal value (NV). If these preliminary results are adopted in our final results of administrative review, we will instruct U.S. Customs and Border Protection (CBP) to assess antidumping duties on all appropriate entries.

In addition, the Department has received information sufficient to warrant a successor-in-interest analysis in this administrative review. Based on this information, we preliminarily determine that Enpar is the successor-in-interest to Firth Rixson Special Steels Ltd. for purposes of determining antidumping duty liability. Interested parties are invited to comment on these preliminary results.

EFFECTIVE DATE: March 30, 2007.

FOR FURTHER INFORMATION CONTACT: Kate Johnson or Rebecca Trainor, AD/CVD Operations, Office 2, Import Administration, International Trade Administration, U.S. Department of Commerce, 14th Street and Constitution Avenue, NW, Washington, DC 20230; telephone: (202) 482-4929 or (202) 482-4007, respectively.

SUPPLEMENTARY INFORMATION:

Background

On March 7, 2002, the Department published in the Federal Register an antidumping duty order on stainless steel bar from the United Kingdom. See Antidumping Duty Order: Stainless Steel Bar from the United Kingdom, 67 FR 10381 (March 7, 2002).

In response to timely requests by manufacturer/exporters, Firth Rixson Ltd.¹ and Corus Engineering Steels (Corus), the Department published a notice of initiation of an administrative review with respect to these companies. See Initiation of Antidumping and Countervailing Duty Administrative Reviews, 71 FR 25145 (April 28, 2006). The POR is March 1, 2005, through February 28, 2006.

¹ Firth Rixson Ltd. is the parent company of Enpar, the respondent in this review, which was formerly known as Firth Rixson Special Steels Ltd.

On April 25, 2006, we issued antidumping duty questionnaires to the above-mentioned companies. On May 16, 2006, Enpar requested that the Department allow it to limit its reporting of home market sales and cost of production information in this review. In a letter dated May 26, 2006, we permitted Enpar to limit its reporting of home market sales to the six-month contemporaneous window period of October 1, 2005, through March 31, 2006, and to certain grades of stainless steel bar, as long as Enpar reported complete sales and cost information for sales of these grades as well as for sales of the five most similar grades. In addition, we permitted Enpar to limit its cost of production reporting to these same grades, but we required that cost information be reported for the entire POR.

On June 1, 2006, Corus timely withdrew its request for an administrative review of its sales during the above-referenced period. Accordingly, we published a notice rescinding the review with respect to this company. See Stainless Steel Bar from the United Kingdom: Notice of Partial Rescission of Antidumping Duty Administrative Review, 71 FR 34895 (June 16, 2006).

On June 23, 2006, we received Enpar's response to both the sales and cost of production portions of the antidumping questionnaire. We issued a supplemental questionnaire (sales) to Enpar on August 8, 2006, to which Enpar responded on September 8, 2006. We issued supplemental questionnaires (cost) on July 24 and September 18, 2006, and received responses on September 8 and October 12, 2006, respectively.

On October 16, 2006, we extended the time limit for the preliminary results in this review by 120 days. See Stainless Steel Bar from the United Kingdom: Notice of Extension of Time Limit for Preliminary Results of the 2005-2006 Administrative Review, 71 FR 60691 (October 16, 2006).

We issued additional supplemental questionnaires (cost) on October 31 and December 19, 2006, and received responses on November 28, 2006 and January 5, 2007, respectively.

During the periods November 13 - 16, 2006, and February 22 - March 2, 2007, we conducted the sales and cost verifications of the questionnaire responses of Enpar.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this order is dispositive.

Successor-In-Interest Analysis

In accordance with section 751(b) of the Tariff Act of 1930, as amended (the Act), the Department is conducting a successor-in-interest analysis to determine whether Enpar is the successor-in-interest to Firth Rixson Special Steels Ltd. for purposes of determining antidumping liability with respect to the subject merchandise. In making such a successor-in-interest determination, the Department examines several factors including, but not limited to, changes in: (1) management; (2) production facilities; (3) supplier relationships; and (4) customer base. See, e.g., Notice of Final Results of Changed Circumstances Antidumping Duty Administrative Review: Polychloroprene Rubber from Japan, 67 FR 58 (January 2, 2002) (Polychloroprene Rubber from Japan); Brass Sheet and Strip from Canada; Final Results of Antidumping Duty Administrative Review, 57 FR 20460 (May 13, 1992) (Canadian Brass). While no individual factor or combination of these factors will necessarily provide a dispositive indication, the Department will generally consider the new company to be the successor to the previous company if its resulting operation is not materially dissimilar to that of its predecessor. See, e.g., Polychloroprene Rubber from Japan; Industrial Phosphoric Acid from Israel: Final Results of Changed Circumstances Review, 59 FR 6944 (February 14, 1994); Canadian Brass; Fresh and Chilled Atlantic Salmon from Norway: Initiation and Preliminary Results of Changed Circumstances Antidumping Duty Administrative Review, 63 FR 50880 (September 23, 1998) (unchanged in final results, Fresh and Chilled Atlantic Salmon From Norway; Final Results of Changed Circumstances Antidumping Duty Administrative Review, 64 FR 9979 (March 1, 1999)). Thus, if the evidence demonstrates that, with respect to the production and sale of the subject merchandise, the new company operates as the same business entity as the former company, the Department will generally accord the new company the same antidumping duty treatment as its predecessor.

We preliminarily determine that Enpar is the successor-in-interest to Firth Rixson Special Steels Ltd. Enpar explained in its questionnaire response that Firth Rixson Special Steels Ltd. was a subsidiary of the U.K.-based Firth Rixson Ltd. Firth Rixson Special Steels Ltd. and two other subsidiaries of the U.K.-based Firth Rixson Ltd., T.W. Pearson and Enpar, were combined in 2003 to form Enpar. Enpar has the same company registration number as that of Firth Rixson Special Steels Ltd., the registered office is the same for both companies, and three of Enpar's four directors were also directors of Firth Rixson Special Steels Ltd. We confirmed at verification that Enpar's business structure is the same as that of Firth Rixson Special Steels Ltd. Although certain upgrades have been made to the production facility, the supplier and customer bases and relationships remain the same. In fact, the only real change is the name of the subsidiary. Accordingly, we preliminarily find that Enpar should receive the same antidumping duty treatment with respect to stainless steel bar as the former Firth Rixson Special Steels Ltd.

Comparisons to Normal Value

To determine whether sales of stainless steel bar by Enpar to the United States were made below NV, we compared export price (EP) to the NV, as described in the “Export Price” and “Normal Value” sections of this notice.

Pursuant to section 777A(d)(2) of the Act, we compared the EPs of individual U.S. transactions to the weighted-average NV of the foreign like product where there were sales made in the ordinary course of trade, as discussed in the “Cost of Production Analysis” section below.

Product Comparisons

In accordance with section 771(16) of the Act, we considered all products produced by the respondent covered by the description in the “Scope of the Order” section, above, to be foreign like products for purposes of determining appropriate product comparisons to U.S. sales. Pursuant to 19 CFR 351.414(e)(2), we compared Enpar's U.S. sales to sales made in the home market within the contemporaneous window period, which extends from three months prior to the U.S. sale until two months after the sale. Where there were no sales of identical merchandise in the comparison market made in the ordinary course of trade to compare to U.S. sales, we compared U.S. sales to sales of the most similar foreign like product made in the ordinary course of trade. In making the product comparisons, we matched foreign like products based on the physical characteristics reported by the respondents in the following order: finish, grade, remelting, type of final finishing operation, shape and size.

Export Price

We used EP methodology, in accordance with section 772(a) of the Act, because the subject merchandise was sold directly by Enpar to the first unaffiliated purchaser in the United States prior to importation and constructed export price (CEP) methodology was not otherwise indicated. We based EP on packed prices to unaffiliated purchasers in the United States.

Enpar reported its U.S. sales on a delivered duty paid basis. We made deductions from the starting price, where appropriate, for foreign inland freight, international freight, foreign inland and marine insurance, foreign and U.S. brokerage and handling, U.S. inland freight and U.S. duty, in accordance with section 772(c)(2) of the Act and 19 CFR 351.402.

Normal Value

In order to determine whether there was a sufficient volume of sales in the home market to serve as a viable basis for calculating NV, we compared Enpar's volume of home market sales of the foreign like product to the volume of U.S. sales of the subject merchandise, in accordance with section 773(a)(1)(C) of the Act.

Because Enpar's aggregate volume of home market sales of the foreign like product was greater than five percent of its aggregate volume of U.S. sales for the subject merchandise, we determined that its home market was viable.

Level of Trade

Section 773(a)(1)(B)(i) of the Act states that, to the extent practicable, the Department will calculate NV based on sales at the same level of trade (“LOT”) as the EP or CEP. Sales are made at different LOTs if they are made at different marketing stages (or their equivalent). See 19 CFR 351.412(c)(2). Substantial differences in selling activities are a necessary, but not sufficient, condition for determining that there is a difference in the stages of marketing. Id.; See also Notice of Final Determination of Sales at Less Than Fair Value: Certain Cut-to-Length Carbon Steel Plate From South Africa, 62 FR 61731, 61732 (November 19, 1997) (Plate from South Africa). In order to determine whether the comparison sales were at different stages in the marketing process than the U.S. sales, we reviewed the distribution system in each market (i.e., the chain of distribution), including selling activities, class of customer (customer category), and the level of selling expenses for each type of sale.

Pursuant to section 773(a)(1)(B)(i) of the Act, in identifying LOTs for EP and comparison market sales (i.e., NV based on either home market or third country prices),² we consider the starting prices before any adjustments. For CEP sales, we consider only the selling activities reflected in the price after the deduction of expenses and profit under section 772(d) of the Act. See Micron Technology, Inc. v. United States, 243 F. 3d 1301, 1314 (Fed. Cir. 2001).

² Where NV is based on constructed value (CV), we determine the NV LOT based on the LOT of the sales from which we derive selling expenses, general and administrative (“SG&A”) expenses, and profit for CV, where possible. See Notice of Preliminary Determination of Sales at Less Than Fair Value and Postponement of Final Determination: Fresh Atlantic Salmon from Chile, 63 FR 2664 (January 16, 1998) (unchanged in final determination, Notice of Final Determination of Sales at Less Than Fair Value: Fresh Atlantic Salmon From Chile, 63 FR 31411 (June 9, 1998)).

When the Department is unable to match U.S. sales of the foreign like product in the comparison market at the same LOT as the EP or CEP, the Department may compare the U.S. sales to sales at a different LOT in the comparison market. In comparing EP or CEP sales at a different LOT in the comparison market, where available data make it practicable, and where the difference affects price comparability, we make an LOT adjustment under section 773(a)(7)(A) of the Act. Finally, for CEP sales only, if the NV LOT is more remote from the factory than the CEP LOT and there is no basis for determining whether the difference in LOTs between NV and CEP affects price comparability (i.e., no LOT adjustment was practicable), the Department shall grant a CEP offset, as provided in section 773(a)(7)(B) of the Act. See Plate from South Africa, 62 FR at 61732-33.

In this administrative review, we obtained information from Enpar regarding the marketing stages involved in making the reported foreign market and U.S. sales, including a description of the selling activities performed for each channel of distribution. Enpar reported that it made EP sales in the U.S. market through a single distribution channel (i.e., sales to end users through a commission agent). We examined the selling activities Enpar performed during the POR for this channel, and based on verification, we found that Enpar performed the following selling activities for its U.S. sales: sales and marketing, freight and delivery, and payment of commissions. Because all sales in the United States are made through a single distribution channel, we preliminarily determine that there is one LOT in the U.S. market.

Enpar reported that it made sales to the home market through two channels of distribution (i.e., sales to service centers and sales to end users). We examined the selling activities Enpar performed during the POR for both channels, and based on verification, we found that the only selling activities Enpar performed for its home market sales were sales and marketing and freight and delivery. Because Enpar performed identical selling functions for both channels of distribution, we preliminarily determine that there is one LOT in the home market.

Finally, we compared the EP LOT to the home market LOT and found that, with the exception of commission payments in the U.S. market, the core selling activities performed for the U.S. and the home markets are identical. As there were no other differences in selling activities between the two markets, we preliminarily determine that sales to the U.S. and home markets during the POR were made at the same LOT, and as a result, no LOT adjustment is warranted.

Cost of Production Analysis

Because we assigned Firth Rixson Special Steels Ltd. a margin based on total adverse facts available in the first administrative review,³ which was the most recently completed segment of this proceeding as of the publication date of the initiation of this review,⁴ there are reasonable grounds to believe or suspect that Enpar, which we have preliminarily determined is the successor-in-interest to Firth Rixson Special Steels Ltd., made sales in the home market at prices below the cost of producing the merchandise in the current review period. Accordingly, we required that Firth Rixson provide a response to Section D of the questionnaire, in accordance with our normal practice.

³ We required that Firth Rixson Special Steels Ltd. provide a response to Section D of the questionnaire in the first administrative review.

⁴ No interested party requested a review of Firth Rixson Special Steels Ltd. for the second and third review periods.

A. Calculation of Cost of Production

In accordance with section 773(b)(3) of the Act, we calculated Enpar's cost of production (“COP”) based on the sum of its costs of materials and conversion, plus amounts for general and administrative (“G&A”) expenses and interest expenses. See “Test of Comparison Market Sales Prices” section below for treatment of home market selling expenses.

The Department relied on the COP data submitted by the respondent in its most recent supplemental section D questionnaire response for the COP calculation, except in the following instances:

1. Based on verification findings, for grades 316 and 304, we recalculated the average material cost using all grade 316 and 304 input materials consumed, rather than using only selected grade 316 and 304 input materials consumed, as reported by Enpar. In addition, when recalculating the average material cost, we weighted input prices using relative consumption quantities rather than relative purchase quantities. We increased the reported material costs for grade 316 and 304 products by the difference between the reported cost and the revised cost we calculated for these products. For all other grades, we increased the reported material costs by the average difference between the reported costs and revised costs for grades 316 and 304.

2. Based on verification findings, we reallocated conversion costs for selected products based on work order times for each process, as opposed to the standard times used by Enpar. As the work order times were used by Enpar to develop its actual hourly processing rates, we deem it appropriate to apply the actual hourly processing rates to the same work order times. For all other products, we increased the reported variable and fixed conversion costs by the average difference between the reported and revised costs of the selected products.

3. Based on verification findings, we adjusted the G&A ratio to exclude the offsets for interest income and foreign exchange gains. In addition, we calculated the G&A ratio as a percentage of cost of goods sold, rather than as a percentage of material costs, as reported by Enpar.

Our revisions to Enpar's COP data are discussed in the Memorandum from Joseph Welton, Senior Accountant, to Neal Halper, Director, Office of Accounting, entitled “Cost of Production and Constructed Value Calculation Adjustments for the Preliminary Results - Enpar Special Alloys Limited (Enpar),” dated March 22, 2007.

2. Test of Comparison Market Sales Prices

On a product-specific basis, we compared the adjusted weighted-average COP to the home market sales of the foreign like product, as required under section 773(b) of the Act, in order to determine whether the sale prices were below the COP. For purposes of this comparison, we used COP exclusive of selling and packing expenses. The prices were inclusive of billing adjustments and exclusive of any applicable movement charges, discounts and rebates, and direct and indirect selling expenses and packing expenses, revised where appropriate.

3. Results of the COP Test

In determining whether to disregard home market sales made at prices below the COP, we examined, in accordance with sections 773(b)(1)(A) and (B) of the Act: (1) Whether, within an extended period of time, such sales were made in substantial quantities; and (2) whether such sales were made at prices which permitted the recovery of all costs within a reasonable period of time in the normal course of trade. Where less than 20 percent of a respondent's home market sales of a given product are at prices less than the COP, we do not disregard any below-cost sales of that product, because we determine that in such instances the below-cost sales were not made within an extended period of time and in “substantial quantities.” Where 20 percent or more of a respondent's sales of a given product are at prices less than the COP, we disregard the below-cost sales because: (1) They were made within an extended period of time in “substantial quantities,” in accordance with sections 773(b)(2)(B) and (C) of the Act, and (2) based on our comparison of prices to the weighted-average COPs for the POR, they were at prices which would not permit the recovery of all costs within a reasonable period of time, in accordance with section 773(b)(2)(D) of the Act.

We found that, for certain products, more than 20 percent of Enpar's home market sales were at prices less than the COP and, in addition, such sales did not provide for the recovery of costs within a reasonable period of time. We therefore excluded these sales and used the remaining sales as the basis for determining NV, in accordance with section 773(b)(1) of the Act.

D. Calculation of Normal Value Based on Comparison Market Prices

We based NV for Enpar on ex-works or CIF prices to unaffiliated customers in the home market. Where appropriate, we made adjustments to the starting price for billing adjustments. We made deductions, where appropriate, from the starting price for discounts and rebates, foreign inland freight, and insurance expenses, under section 773(a)(6)(B)(ii) of the Act. Based on our sales verification findings, we made minor revisions to the billing adjustments and foreign inland freight expenses reported for certain home market sales. See the March 22, 2007, memorandum entitled, “Calculation Memorandum for the Preliminary Results for Enpar Special Alloys Ltd.” (“Enpar Preliminary Calculation Memorandum”).

We made adjustments for differences in costs attributable to differences in the physical characteristics of the merchandise in accordance with section 773(a)(6)(C)(ii) of the Act and 19 CFR 351.411. In addition, we made adjustments under section 773(a)(6)(C)(iii) of the Act and 19 CFR 351.410 for differences in circumstances of sale (“COS”) for imputed credit expenses. Using interest rate information provided in Enpar's questionnaire response, we recalculated U.S. and home market imputed credit expenses using the average U.S. and U.K. short-term interest rates for the POR. See Enpar Preliminary Calculation Memorandum. As commissions were paid in the U.S. market but not in the home market, we made a downward adjustment to NV for the lesser of (1) the amount of commission paid in the U.S. market, or (2) the amount of indirect selling expenses incurred in the home market. We revised the reported indirect selling expenses to reflect verification findings. See Enpar Preliminary Calculation Memorandum. We also deducted home market packing costs and added U.S. packing costs, in accordance with section 773(a)(6)(A) and (B) of the Act.

Currency Conversion

We made currency conversions in accordance with section 773A(a) of the Act based on the exchange rates in effect on the dates of the U.S. sales as certified by the Federal Reserve Bank.

Preliminary Results of Review

As a result of this review, we preliminarily determine that the weighted-average dumping margin for the period March 1, 2005, through February 28, 2006, is as follows:

Manufacturer/Exporter | Percent Margin
Enpar Special Alloys Ltd. (formerly Firth Rixson Special Steels Ltd.) | 33.87

Disclosure and Public Hearing

We will disclose the calculations used in our analysis to parties to this proceeding within five days of the publication date of this notice. See 19 CFR 351.224(b). Any interested party may request a hearing within 30 days of publication. See 19 CFR 351.310(c). Interested parties who wish to request a hearing or to participate if one is requested, must submit a written request to the Assistant Secretary for Import Administration, Room B-099, within 30 days of the date of publication of this notice. Requests should contain: (1) The party's name, address and telephone number; (2) the number of participants; and (3) a list of issues to be discussed. See 19 CFR 351.310(c).

Issues raised in the hearing will be limited to those raised in the respective case briefs. Pursuant to 19 CFR 351.309, interested parties may submit written comments in response to these preliminary results. Unless the time period is extended by the Department, case briefs are to be submitted within 30 days after the date of publication of this notice (see 19 CFR 351.309(c)), and rebuttal briefs, limited to arguments raised in case briefs, are to be submitted no later than five days after the time limit for filing case briefs. See 19 CFR 351.309(d). Parties who submit arguments in this proceeding are requested to submit with the argument: (1) a statement of the issues, and (2) a brief summary of the argument. Case and rebuttal briefs must be served on interested parties, in accordance with 19 CFR 351.303(f).

The Department will issue the final results of this administrative review, including the results of its analysis of issues raised in any written briefs, not later than 120 days after the date of publication of this notice, pursuant to section 751(a)(3)(A) of the Act.

Assessment Rates

Upon completion of the administrative review, the Department shall determine, and CBP shall assess, antidumping duties on all appropriate entries, in accordance with 19 CFR 351.212. The Department intends to issue assessment instructions for the companies subject to this review to CBP 15 days after the date of publication of the final results of this review.

We will calculate importer-specific ad valorem duty assessment rates based on the ratio of the total amount of antidumping duties calculated for the examined sales to the total entered value of the examined sales for that importer. We will instruct CBP to assess antidumping duties on all appropriate entries covered by this review if any importer-specific assessment rate calculated in the final results of this review is above de minimis (i.e., at or above 0.50 percent). Pursuant to 19 CFR 351.106(c)(2), we will instruct CBP to liquidate without regard to antidumping duties any entries for which the assessment rate is de minimis (i.e., less than 0.50 percent). See 19 CFR 351.106(c)(1). The final results of this review shall be the basis for the assessment of antidumping duties on entries of merchandise covered by the final results of this review and for future deposits of estimated duties, where applicable.

The Department clarified its “automatic assessment” regulation on May 6, 2003. See Antidumping and Countervailing Duty Proceedings: Assessment of Antidumping Duties, 68 FR 23954 (May 6, 2003) (Assessment Policy Notice). This clarification will apply to entries of subject merchandise during the POR produced by any company included in the final results of review for which the reviewed company did not know that the merchandise it sold to the intermediary (e.g., a reseller, trading company, or exporter) was destined for the United States. In such instances, we will instruct CBP to liquidate unreviewed entries at the “All Others” rate if there is no rate for the intermediary involved in the transaction. See Assessment Policy Notice for a full discussion of this clarification.

Cash Deposit Requirements

The following cash deposit requirements will be effective for all shipments of the subject merchandise entered, or withdrawn from warehouse, for consumption on or after the publication date of the final results of this administrative review, as provided by section 751(a)(2)(C) of the Act: 1) the cash deposit rate for the company listed above will be that established in the final results of this review, except if the rate is less than 0.50 percent, and therefore, de minimis within the meaning of 19 CFR 351.106(c)(1), in which case the cash deposit rate will be zero; 2) for previously reviewed or investigated companies not participating in this review, the cash deposit rate will continue to be the company-specific rate published for the most recent period; 3) if the exporter is not a firm covered in this review, or the original less-than-fair-value investigation (LTFV) investigation, but the manufacturer is, the cash deposit rate will be the rate established for the most recent period for the manufacturer of the merchandise; and 4) the cash deposit rate for all other manufacturers or exporters will continue to be 4.48 percent, the “All Others” rate made effective by the LTFV investigation. These requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i)(1) of the Act and 19 CFR 351.221.

Dated: March 22, 2007.
David M. Spooner,
Assistant Secretary for Import Administration.

[FR Doc. E7-5860 Filed 3-29-07; 8:45 am]

BILLING CODE 3510-DS-S